DEPARTMENT OF THE INTERIOR

National Park Sevice

60-Day Notice of Intention To Request Clearance of Collection of Information—Opportunity for Public Comment

AGENCY: Department of the Interior; National Park Service.

ACTION: Notice and request for comments.

SUMMARY: Under the provisions of the Paperwork Reduction Act of 1995 (Pub. L. 104-13, 44 U.S.C. 3507) and 5 CFR 1320, Reporting and Recordkeeping Requirements, the National Park Service invites public comments on an extension of a currently approved collection of information Office of Management and Budget (OMB)#1024-0089. An agency may not conduct or sponsor, and a person is not required to respond to, a collection of information unless it displays a currently valid OMB control number.

DATES: Public comments will be accepted on or before May 17, 2010.

ADDRESSES: Send comments to Michael D. Wilson, Chief or Laurie Heupel, Outdoor Recreation Planner, State and Local Assistance Programs Division, National Park Service (2225), 1849 C Street, NW., Washington, DC 20240-0001 or via e-mail at michael_d_wilson@nps.gov or laurie_heupel@nps.gov. All responses to this notice will be summarized and included in the request.

To Request a Draft of Proposed Collection of Information Contact: Michael D. Wilson, Chief or Laurie Heupel, Outdoor Recreation Planner, State and Local Assistance Programs Division, National Park Service (2225), 1849 C Street, NW., Washington, DC 20240-0001 or via e-mail at michael_d_wilson@nps.gov or laurie_heupel@nps.gov. You are entitled to a copy of the entire ICR package free-of-charge.

SUPPLEMENTARY INFORMATION: OMB Control Number: 1024-0089.

Title: Urban Park and Recreation Recovery Program Project Agreements.

Form: None.

Type of Request: Extension of currently approved information collection.

Current Expiration Date: August 31, 2010.

Abstract: In order to receive financial assistance or to amend an existing grant, recipients must complete and sign the project agreement form from which sets forth the obligations of the recipients and the NPS along with any special terms or conditions of the grant award.

Affected Public: State Government, DC and Territories.

Obligation to Respond: Required to Obtain a Benefit.

Frequency of Response: On occasion.

Estimated total annual responses: 3.

Estimated average completion time per response: 1.0 hour.

Estimated annual reporting burden. 3 hours.

Estimated annual non-hour cost burden. None.

The NPS also is asking for comments on (1) The practical utility of the information being gathered; (2) the accuracy of the burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information we cannot guarantee that we will be able to do so.

Dated: March 12, 2010.
Cartina Miller,
Information Collection Officer, National Park Service.

[FR Doc. 2010-5870 Filed 3-17-10; 8:45 am]

BILLING CODE P